FEDERAL MARITIME COMMISSION

Notice of Request for Additional Information

The Commission gives notice that it has formally requested that the parties to the below listed agreement provide additional information pursuant to 46 U.S.C. 40304(d). This action prevents the agreement from becoming effective as originally scheduled. Interested parties may file comments within fifteen (15) days after publication of this notice in the Federal Register.

Agreement No.: 202202-006.

Title: Oakland MTO Agreement.

Parties: Ports America Outer Harbor Terminal, LLC; Seaside Transportation Service LLC; SSA Terminals, LLC; SSA Terminals (Oakland), LLC; and Trapac, LLC.

By Order of the Federal Maritime Commission.
Dated: September 8, 2015.
Rachel E. Dickon,
Assistant Secretary.

[FR Doc. 2015-22909 Filed 9-10-15; 8:45 am]

BILLING CODE 6730-01-P